NUCLEAR REGULATORY COMMISSION

Yucca Mountain Review Plan, NUREG-1804, Revision 2, Draft Report for Comment

AGENCY: Nuclear Regulatory Commission.

ACTION: Extension of comment period.

SUMMARY: On March 29, 2002 (67 FR 15257), and April 5, 2002 (67 FR 16490), the U.S. Nuclear Regulatory Commission (NRC) published for a 90-day public comment period the “Yucca Mountain Review Plan, NUREG-1804, Revision 2, Draft Report for Comment.” The public comment period was to have expired on June 27, 2002. The NRC conducted public meetings on the draft review plan on May 21-23, 2002. During these meetings, NRC received a request to extend the comment period by an additional 90 days and conduct additional public meetings on the draft review plan. The requester cited not having received the document in a timely manner as the reason for the extension request. The draft review plan provides guidance to the NRC staff for evaluating a potential license application for a geologic repository.

After careful consideration of the request, NRC has decided to extend the public comment period for an additional 45 days. The extended comment period will now expire on August 12, 2002. The NRC believes that it has provided ample opportunity for interested individuals to comment on the draft review plan and thus does not intend to conduct additional public meetings at this time.

DATES: The public comment period has been extended and now expires on August 12, 2002. Comments received after this date will be considered, if it is practical to do so, but the Commission is able to assure consideration only for comments received on or before this date.

ADDRESSES: Submit written comments to: Michael T. Lesar, Chief, Rules and Directives Branch, Division of Administrative Services, Office of Administration, U.S. Nuclear Regulatory Commission, Mail Stop T-6D59, Washington, DC 20555-0001. Deliver comments to 11545 Rockville Pike, Rockville, Maryland, between 7:45 a.m. and 4:15 p.m., on Federal workdays.

Copies of any comments received and documents related to this action may be examined at the NRC Public Document Room, One White Flint North, Public File Area O1-F21, 11545 Rockville Pike, Rockville, Maryland. Documents are also available electronically at NRC's Public Electronic Reading Room on the Internet at http://www.nrc.gov/reading-rm.html. From this site, the public can gain entry into NRC's Agency-wide Documents Access and Management System, which provides text and image files of NRC's public documents. For more information, contact the NRC's Public Document Room Reference staff by telephone at (800) 397-4209, (301) 415-4737, or e-mail: pdr@nrc.gov.

The document is also available at NRC's website at: http://www.nrc.gov/reading-rm/doc-collections/nuregs/staff/sr1804/. You may also send comments electronically from this website by clicking on comment form. If a hard copy is preferred, a free single copy of the “Yucca Mountain Review Plan, NUREG-1804, Revision 2, Draft Report for Comment,” may be requested by writing to the U.S. Nuclear Regulatory Commission, ATTN: Reproduction and Distribution Services Branch, Washington, DC 20555-0001; sending an e-mail to Distribution@nrc.gov; or by sending a fax to (301) 415-2289. A copy of the “Yucca Mountain Review Plan, NUREG-1804, Revision 2, Draft Report for Comment,” is also available for inspection, and copying for a fee, in the NRC's Public Document Room, One White Flint North, Public File Area O1-F21, 11555 Rockville Pike, Rockville, Maryland.

FOR FURTHER INFORMATION, CONTACT: Jeffrey A. Ciocco, High-Level Waste Branch, Division of Waste Management, Office of Nuclear Material Safety and Safeguards, U.S. Nuclear Regulatory Commission, Mail Stop T-7F3, Washington, DC 20555-0001, telephone (301) 415-6391, e-mail: jac3@nrc.gov.

Dated at Rockville, Maryland, this 17th day of June 2002.
For the Nuclear Regulatory Commission.
Janet R. Schlueter,
Chief, High-Level Waste Branch, Division of Waste Management, Office of Nuclear Material Safety and Safeguards.

[FR Doc. 02-15682 Filed 6-20-02; 8:45 am]

BILLING CODE 7590-01-P